DEPARTMENT OF COMMERCE

International Trade Administration

[A-475-828]

Stainless Steel Butt-Weld Pipe Fittings From Italy: Final Results of Antidumping Duty Administrative Review and Final No Shipment Determination

AGENCY: Import Administration, International Trade Administration, Department of Commerce.

SUMMARY: On December 22, 2011, the Department of Commerce published the preliminary results of the administrative review of the antidumping duty order on stainless steel butt-weld pipe fittings (SSBW pipe fittings) from Italy.¹ This review covers two respondent companies and the period of review is from February 1, 2010, through January 31, 2011. We invited interested parties to comment on the preliminary results but received no comments. Therefore, our final results remain unchanged from the preliminary results of review.

¹ See Stainless Steel Butt-Weld Pipe Fittings From Italy: Preliminary Results of Antidumping Duty Administrative Review and Preliminary No Shipment Determination, 76 FR 79651 (December 22, 2011) (Preliminary Results).

DATES: Effective Date: April 24, 2012.

FOR FURTHER INFORMATION CONTACT: Edythe Artman or Angelica Mendoza, AD/CVD Operations, Office 7, Import Administration, International Trade Administration, U.S. Department of Commerce, 14th Street and Constitution Avenue NW., Washington, DC 20230; telephone: (202) 482-3931 or (202) 482-3019, respectively.

SUPPLEMENTARY INFORMATION:

Background

On December 22, 2011, the Department published the preliminary results of the current administrative review on SSBW pipe fittings from Italy in the Federal Register. See Preliminary Results. In these results, we preliminarily determined that the respondent Filmag Italia SRL (Filmag) had no reviewable transactions during the period of review. With respect to the respondent Tectubi Raccordi S.p.A. (Tectubi), we determined that it and two of its affiliates, Raccordi Forgiati S.r.l. (Raccordi) and Allied International S.r.l. (Allied) should be treated as a single entity for purposes of calculating a dumping margin pursuant to the provisions of 19 CFR 351.401(f) and consequently, we calculated a preliminary dumping margin based on the sales information reported by Tectubi for all three companies.

We invited parties to comment on the preliminary results of review but received no comments and did not receive any requests for a hearing.

Period of Review

The period of review is February 1, 2010, through January 31, 2011.

Scope of the Order

For purposes of the order, the product covered is certain stainless steel, butt-weld pipe fittings. SSBW pipe fittings are under 14 inches in outside diameter (based on nominal pipe size), whether finished or unfinished. The product encompasses all grades of stainless steel and “commodity” and “specialty” fittings. Specifically excluded from the definition are threaded, grooved, and bolted fittings, and fittings made from any material other than stainless steel.

The butt-weld fittings subject to the order are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Butt-weld fittings manufactured to specification ASTM A774, or its foreign equivalents, are also covered by the order.

The order does not apply to cast fittings. Cast austenitic stainless steel pipe fittings are covered by specifications A351/A351M, A743/743M, and A744/A744M.

The butt-weld fittings subject to the order is currently classifiable under subheading 7307.23.0000 of the Harmonized Tariff Schedule of the United States (HTSUS). Although the HTSUS subheading is provided for convenience and customs purposes, the written description of the scope of the order is dispositive.

Final Determination of No Shipments

As noted in the Preliminary Results, Filmag stated that it had no sales of subject merchandise during the period of review in response to our antidumping questionnaire and we were able to confirm with U.S. Customs and Border Protection (CBP) that the company had no entries of subject merchandise during this period. Based on this evidence, we preliminarily determined that Filmag had no reviewable transactions during the period of review. We further found that if, in the final results, we continued to find that Filmag had no reviewable transactions of subject merchandise, we would instruct CBP to liquidate any existing entries of merchandise produced by Filmag but exported by other parties at the all-others rate.² Because we have no basis to find otherwise, we continue to find that Filmag had no reviewable transactions of subject merchandise during the period of review for the final results of review. Furthermore, we continue to find that it is more consistent with our May 6, 2003, “automatic assessment” clarification ³ not to rescind the review in part in these circumstances but, rather, to complete the review with respect to Filmag and issue appropriate instructions to CBP based on our final results. See the “Assessment Rates” section of this notice below.

² See, e.g., Magnesium Metal From the Russian Federation: Preliminary Results of Antidumping Duty Administrative Review, 75 FR 26922 (May 13, 2010), unchanged in Magnesium Metal From the Russian Federation: Final Results of Antidumping Duty Administrative Review, 75 FR 56989 (September 17, 2010).

³ See Antidumping and Countervailing Duty Proceedings: Assessment of Antidumping Duties, 68 FR 23954 (May 6, 2003) (Assessment of Antidumping Duties).

Final Results of Review

We determine that the following weighted-average dumping margins exist for the period February 1, 2010, through January 31, 2011:

Manufacturer/exporter | Weighted average margins (percent)
Tectubi Raccordi S.p.A./Raccordi Forgiati S.r.l./Allied International S.r.l. | 0.00
Filmag Italia SRL | *
* No shipments or sales subject to this review. The firm does not have an individual rate from a prior segment of the proceeding.

Assessment Rates

We will instruct CBP to apply a dumping margin of zero percent to all entries of subject merchandise during the period of review that were produced by Tectubi or Raccordi and exported and imported by Tectubi.⁴

⁴ Although we found it appropriate to collapse the sales information reported by Tectubi, Raccordi and Allied for our margin analysis, all subject merchandise under review was produced by Tectubi or Raccordi, exported by Tectubi and imported by Tectubi.

The Department clarified its “automatic assessment” regulation on May 6, 2003. See Assessment of Antidumping Duties. This clarification will apply to entries of subject merchandise during the period of review produced by Tectubi, Raccordi and Filmag for which they did not know that their merchandise was destined for the United States. In such instances, we will instruct CBP to liquidate unreviewed entries at the all-others rate of 26.59 percent, established in the less-than-fair-value investigation of the order,⁵ if there is no rate for the intermediate company(ies) involved in the transaction.

⁵ See Antidumping Duty Orders: Stainless Steel Butt-Weld Pipe Fittings From Italy, Malaysia, and the Philippines, 66 FR 11257, 11258 (February, 23, 2001).

We intend to issue assessment instructions to CBP 15 days after publication of these final results of review.

Cash Deposit Requirements

The following deposit requirements will be effective upon publication of the final results of this administrative review for all shipments of the subject merchandise entered, or withdrawn from warehouse, for consumption on or after the publication date of these final results, consistent with section 751(a)(2)(C) of the Act: (1) For subject merchandise manufactured and exported by the collapsed Tectubi companies (i.e., Tectubi, Raccordi and Allied), the cash deposit rate will be zero; (2) for previously reviewed or investigated companies other than the collapsed Tectubi companies, the cash-deposit rate will continue to be the company-specific rate published for the most-recent period; (3) if the exporter is not a firm covered in this review, the prior review, or the investigation but the manufacturer is, the cash-deposit rate will be the rate established for the most recent period for the manufacturer of the merchandise; and (4) if neither the exporter nor the manufacturer is a firm covered in this or any previous review conducted by the Department, the cash-deposit rate will be the all-others rate of 26.59 percent. These deposit requirements, when imposed, shall remain in effect until further notice.

Notifications to Interested Parties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation, which is subject to sanction.

We are issuing and publishing this notice in accordance with sections 751(a)(1) and 777(i)(1) of the Tariff Act of 1930, as amended.

Dated: April 17, 2012.
Paul Piquado,
Assistant Secretary for Import Administration.

[FR Doc. 2012-9819 Filed 4-23-12; 8:45 am]

BILLING CODE 3510-DS-P